DEPARTMENT OF COMMERCE

National Oceanic and Atmospheric Administration

Proposed Information Collection; Comment Request; Pacific Islands Region Seabird-Fisheries Side-Setting Survey

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 20, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Alvin Katekaru, (808) 973-2937 or Alvin.Katekaru@noaa.gov.

SUPPLEMENTARY INFORMATION:

I. Abstract

The Western Pacific Fishery Management Council is preparing mitigation measures to reduce interactions between seabirds and the Hawaii-based pelagic longline fishery, by requiring longline vessel operators to use either side-setting (setting the longline fishing gear from the side of the vessel rather than the stern) or the current suite of seabird mitigation measures, plus tori lines. Although side-setting shows to be the most promising mitigation technique in terms of effectiveness, additional information is needed. The vessel operators currently voluntarily side-setting will be asked to provide data on the operational benefits of side-setting as well as the effectiveness of side-setting as a seabird deterrent. This collection of information is intended to provide the National Marine Fisheries Service with information as to the cost, availability of equipment, and operational use of equipment, required for side-setting. This information will be used to determine whether it is feasible and cost effective for Hawaii longline vessels to convert to side setting, and to formulate specifications for vessels side-setting.

II. Method of Collection

Paper surveys administered and completed by staff in interviews conducted dockside with participants.

III. Data

OMB Number: None.

Form Number: None.

Type of Review: Regular submission.

Affected Public: Business or other for-profits organizations, and individuals or households.

Estimated Number of Respondents: 120.

Estimated Time Per Response: 30 minutes.

Estimated Total Annual Burden Hours: 60.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 16, 2005.
Gwellnar Banks,
Management Analyst, Office of the Chief Information Officer.

[FR Doc. 05-5526 Filed 3-18-05; 8:45 am]

BILLING CODE 3510-22-P